DEPARTMENT OF COMMERCE

National Oceanic and Atmospheric Administration

[Docket No. 030602141-4163-07]

Financial Assistance for Educational Partnership Program (EPP) with Minority Serving Institutions (MSI), Environmental Entrepreneurship Program (EEP)

AGENCY: Office of Oceanic and Atmospheric Research (OAR), National Oceanic and Atmospheric Administration (NOAA), U.S. Department of Commerce.

ACTION: Notice.

SUMMARY: The NOAA Educational Partnership Program with Minority Serving Institutions hereby cancels the Environmental Entrepreneurship Program grant competition for fiscal year 2004.

FOR FURTHER INFORMATION CONTACT: Jewel G. Linzey, 301-713-9437.

SUPPLEMENTARY INFORMATION: The Environmental Entrepreneurship Program solicitation was originally included in the NOAA Omnibus Notice, Availability of Grant Funds for fiscal year 2004, published in the Federal Register on February 12, 2004 (Volume 69, Number 29).

The Educational Partnership Program cancels the grant program competition for fiscal year 2004 announced in that solicitation. The competition did not result in an adequate number of eligible applications to be recommended for funding. All applicants that submitted applications in response to the solicitation will be notified of the cancellation. The program anticipates announcing a fiscal year 2005 competition in the NOAA Omnibus Notice in June 2004. Subject to availability of funding, approximately $6 million will be available for the Environmental Entrepreneurship Program competition in 2005.

Dated: May 28, 2004.
Louisa Koch,
Deputy Assistant Administrator, Office of Oceanic and Atmospheric Research, National Oceanic and Atmospheric Administration.

[FR Doc. 04-12600 Filed 6-2-04; 8:45 am]

BILLING CODE 3510-KD-P